SMALL BUSINESS ADMINISTRATION

[Declaration of Disaster #3481]

State of Ohio

As a result of the President's major disaster declaration on March 14, 2003, I find that Adams, Jackson, Lawrence, Pike and Scioto Counties in the State of Ohio constitute a disaster area due to damages caused by a severe winter storm and record snow occurring on February 14, 2003, and continuing. Applications for loans for physical damage as a result of this disaster may be filed until the close of business on May 13, 2003, and for economic injury until the close of business on December 15, 2003, at the address listed below or other locally announced locations: U.S. Small Business Administration, Disaster Area 2 Office, One Baltimore Place, Suite 300, Atlanta, GA 30308.

In addition, applications for economic injury loans from small businesses located in the following contiguous counties may be filed until the specified date at the above location: Brown, Gallia, Highland, Ross and Vinton in the State of Ohio; Boyd, Greenup, Lewis and Mason counties in the State of Kentucky; and Cabell and Wayne counties in the State of West Virginia.

The interest rates are:

For Physical Damage

Homeowners with credit available elsewhere: 5.875%

Homeowners without credit available elsewhere: 2.937%

Businesses with credit available elsewhere: 6.378%

Businesses and non-profit organizations without credit available elsewhere: 3.189%

Others (including non-profit organizations) with credit available elsewhere: 5.500%

For Economic Injury

Businesses and small agricultural cooperatives without credit available elsewhere: 3.189%

The number assigned to this disaster for physical damage is 348111. For economic injury the number is 9U4500 for Ohio; 9U4600 for Kentucky; and 9U4700 for West Virginia.

(Catalog of Federal Domestic Assistance Program Nos. 59002 and 59008)
Dated: March 14, 2003.
Allan I. Hoberman,
Acting Associate Administrator for Disaster Assistance.

[FR Doc. 03-6768 Filed 3-20-03; 8:45 am]

BILLING CODE 8025-01-P